DEPARTMENT OF TRANSPORTATION

Federal Motor Carrier Safety Administration

49 CFR Part 391

[Docket No. FMCSA-2012-0178]

RIN 2126-AB40

Guidance on Medical Examiner's Certification Integration Final Rule Regarding Use of Driver Examination Forms

AGENCY: Federal Motor Carrier Safety Administration (FMCSA), DOT.

ACTION: Guidance.

SUMMARY: The FMCSA announces a 120-day grace period during which Medical Examiners may use either the current or the newly revised versions of the Medical Examination Report (MER) Form and Medical Examiner's Certificate (MEC). This period is from December 22, 2015, until April 20, 2016. This action is being taken to ensure that Medical Examiners have sufficient time to become familiar with the new forms and to program electronic medical records systems.

DATES: This guidance is effective December 21, 2015.

ADDRESSES: You may search background documents or comments to the docket for this rule, identified by docket number FMCSA-2012-0178, by visiting the:

• Federal eRulemaking Portal: http://www.regulations.gov. Follow the online instructions for reviewing documents and comments. Regulations.gov is available electronically 24 hours each day, 365 days a year; or

• DOT Docket Management Facility (M-30): U.S. Department of Transportation (DOT), 1200 New Jersey Avenue SE., West Building, Ground Floor, Room 12-140, Washington, DC 20590-0001.

FOR FURTHER INFORMATION CONTACT: Ms. Christine Hydock, Chief, Medical Programs Division, Office of Policy, Federal Motor Carrier Safety Administration, 1200 New Jersey Avenue SE., Washington, DC 20590 or by telephone (202) 366-4001. If you have questions on viewing material in the docket, contract Docket services, telephone (202) 366-9826.

SUPPLEMENTARY INFORMATION:

I. Legal Basis

On April, 23, 2015, FMCSA published a final rule adopting regulations to facilitate the electronic transmission of MEC information from FMCSA's National Registry to the State driver's license agencies (SDLA) for holders of Commercial Driver's Licenses (CDL) and Commercial Learner's Permits (CLP). (80 FR 22790). On June 22, 2015, FMCSA published a document correcting the effective date for use of new forms prescribed in the final rule to December 22, 2015. (80 FR 35577). See 49 CFR 391.43(f)(1) and (2) and 391.43(h)(1) and (2).

The final rule, as corrected, requires certified MEs performing physical examinations of CMV drivers to use a newly developed MER Form, MCSA-5875, in place of the current MER form, and for use of the newly developed MEC Form MCSA-5876 for the current MEC form, beginning on December 22, 2015.

II. Availability of New Forms

On December 14, FMCSA posted the fillable pdf versions of the new driver examination forms. The Agency had planned to make the forms available prior to this date but experienced technical difficulties. As a result, FMCSA has received numerous requests from the public asking to have the effective date for use of the MER Form, MCSA-5875, and the MEC, MCSA-5876, to be delayed. FMCSA acknowledges that enforcement of this December 22, 2015, compliance date would not provide sufficient time for Medical Examiners to become familiar with the new driver examination forms and/or program electronic medical records systems. For this reason, FMCSA will provide a 120-day grace period during which Medical Examiners may use either the current or the newly revised versions of the Medical Examination Report Form and Medical Examiner's Certificate, which will be from December 22, 2015, until April 20, 2016. Both sets of forms have been posted on the FMCSA Web site,¹ and Medical Examiners have the option to use either set of forms from December 22, 2015 until April 20, 2016.

¹ https://www.fmcsa.dot.gov/medical/driver-medical-requirements/medical-applications-and-forms.

Issued on: December 16, 2015.
T.F. Scott Darling, III,
Acting Administrator.

[FR Doc. 2015-32001 Filed 12-18-15; 8:45 am]

BILLING CODE 4910-EX-P